DEPARTMENT OF TRANSPORTATION

National Highway Traffic Safety Administration

[Docket No. NHTSA-2003-16656; Notice 1]

Hyundai America Technical Center, Inc., Receipt of Petition for Decision of Inconsequential Noncompliance

Hyundai America Technical Center, Inc. (Hyundai), has determined that the rims on certain vehicles that it produced in 2000 through 2003 do not comply with S5.2(a) and S5.2(c) of 49 CFR 571.120, Federal Motor Vehicle Safety Standard (FMVSS) No. 120, “Tire selection and rims for motor vehicles other than passenger cars.” Hyundai has filed an appropriate report pursuant to 49 CFR Part 573, “Defect and Noncompliance Reports.”

Pursuant to 49 U.S.C. 30118(d) and 30120(h), Hyundai has petitioned for an exemption from the notification and remedy requirements of 49 U.S.C. Chapter 301 on the basis that this noncompliance is inconsequential to motor vehicle safety.

This notice of receipt of Hyundai's petition is published under 49 U.S.C. 30118 and 30120 and does not represent any agency decision or other exercise of judgment concerning the merits of the petition.

Affected are a total of approximately 250,348 model year 2001, 2002, 2003 and 2004 Hyundai Santa Fe 4-door multipurpose passenger vehicles produced between March 31, 2000 and October 1, 2003. S5.2 of FMVSS 120, rim marking, requires that each rim be marked with certain information on the weather side, including:

S5.2(a) A designation which indicates the source of the rim's published nominal dimensions, and S5.2(c) The symbol DOT.

The rims installed on the affected vehicles do not contain the markings required by S5.2(a) or S5.2(c).

Hyundai believes that the noncompliance is inconsequential to motor vehicle safety, and that no corrective action is warranted. Hyundai states that the affected rims are 6.5J x 16″ aluminum alloy, which are commonly available and utilized in the United States. They are a correct specification for mounting the P225/70R16 tires specified for all Santa Fe models, and are capable of carrying the GVWR of the vehicle. Hyundai first became aware of this noncompliance of Santa Fe vehicles during a regulatory compliance review during August 2003.

Hyundai states that no accidents or injuries have occurred, and no customer complaints have been received related to the lack of the markings or any problem that may have resulted from the lack of the markings. Hyundai further states that the missing markings do not affect the performance of the wheels or the tire and wheel assemblies.

The rims are marked in compliance with S5.2(b), rim size designation; S5.2(d), manufacturer identification; and S5.2(e), month, day and year or month and year of manufacture. The rims are also marked with the Hyundai part number.

The tire size is marked on the tire sidewalls, and the owner's manual and tire inflation pressure label contain the appropriate tire size to be installed on the original equipment rims. Therefore, Hyundai does not believe there is a possibility of a tire and rim mismatch as a result of the missing rim markings.

Interested persons are invited to submit written data, views, and arguments on the application described above. Comments must refer to the docket and notice number cited at the beginning of this notice and be submitted by any of the following methods. Mail: Docket Management Facility; U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System website at http://dms.dot.gov. Click on “Help” to obtain instructions for filing the document electronically. Comments may be faxed to 1-202-493-2251, or may be submitted to the Federal eRulemaking Portal: Go to http://www.regulations.gov. Follow the online instructions for submitting comments.

The application, supporting materials, and all comments received before the close of business on the closing date indicated below will be filed and will be considered. All comments and supporting materials received after the closing date will also be filed and will be considered to the extent possible. When the application is granted or denied, notice of the decision will be published in the Federal Register pursuant to the authority indicated below.

Comment closing date: January 14, 2004.

Authority: (49 U.S.C. 301118, 301120: delegations of authority at CFR 1.50 and 501.8)

Kenneth N. Weinstein,
Associate Administrator for Enforcement.

[FR Doc. 03-30912 Filed 12-12-03; 8:45 am]

BILLING CODE 4910-59-P